DEPARTMENT OF TRANSPORTATION

Great Lakes St. Lawrence Seaway Development Corporation

33 CFR Part 402

RIN 2135-AA54

Tariff of Tolls; Correction

AGENCY: Great Lakes St. Lawrence Seaway Development Corporation, DOT.

ACTION: Final rule; correction.

SUMMARY: The Great Lakes St. Lawrence Seaway Development Corporation (GLS) and the St. Lawrence Seaway Management Corporation (SLSMC) of Canada, under international agreement, jointly publish and presently administer the St. Lawrence Seaway Tariff of Tolls in their respective jurisdictions. On March 13, 2023, GLS published a final rule that set forth the level of tolls assessed on all commodities and vessels transiting the facilities operated by the GLS and the SLSMC. Due to a technical problem in production, a footnote was numbered incorrectly. This document corrects the error.

DATES: This correction is effective on March 22, 2023.

FOR FURTHER INFORMATION CONTACT: Carrie Mann Lavigne, Chief Counsel, Great Lakes St. Lawrence Seaway Development Corporation, 180 Andrews Street, Massena, New York 13662; (315) 764-3200.

SUPPLEMENTARY INFORMATION: The Great Lakes St. Lawrence Seaway Development Corporation (GLS) and the St. Lawrence Seaway Management Corporation (SLSMC) of Canada, under international agreement, jointly publish and presently administer the St. Lawrence Seaway Tariff of Tolls (Schedule of Fees and Charges in Canada) in their respective jurisdictions. A final rule amending 33 CFR part 402 published March 13, 2023, at 88 FR 15274, carried an incorrect footnote designation in a table in § 402.12. This document corrects that error.

Correction

In FR Doc. 2023-05007 appearing on page 15274 in the Federal Register of Monday, March 13, 2023, the following correction is made:

1. On page 15276, in table 1 to § 402.12, the entry for item number 4 is corrected to read as follows:

§ 402.12 [Corrected]

Table 1 to § 402.12
Item | Column 1: Description of charges | Column 2: Rate ($) Montreal to or from Lake Ontario (5 locks) | Column 3: Rate ($) Welland Canal— Lake Ontario to or from Lake Erie (8 locks)
* * * * * * *
4 | A charge per pleasure craft per lock transited for full or partial transit of the Seaway, including applicable Federal taxes ³ | ⁴ 30.00 | 30.00

* * * * *

Issued at Washington, DC, under authority delegated at 49 CFR part 1.101 Great Lakes St. Lawrence Seaway Development Corporation.
Carrie Lavigne,
Chief Counsel.

[FR Doc. 2023-05636 Filed 3-17-23; 8:45 am]

BILLING CODE 4910-61-P